DEPARTMENT OF AGRICULTURE

Office of the Secretary

2 CFR Subtitle B, Ch. IV

5 CFR Ch. LXXIII

7 CFR Subtitle A; Subtitle B, Chs. I-XI, XIV-XVIII, XX, XXV-XXXVIII, XLII

9 CFR Chs. I-III

36 CFR Ch. II

48 CFR Ch. 4

Semiannual Regulatory Agenda, Fall 2021

AGENCY: Office of the Secretary, USDA.

ACTION: Semiannual Regulatory Agenda.

SUMMARY: This agenda provides summary descriptions of significant and not significant regulations being developed in agencies of the U.S. Department of Agriculture (USDA) in conformance with Executive Orders 12866, “Regulatory Planning and Review,” and 13563, “Improving Regulation and Regulatory Review.” The agenda also describes regulations affecting small entities as required by section 602 of the Regulatory Flexibility Act, Public Law 96-354. This agenda also identifies regulatory actions that are being reviewed in compliance with section 610(c) of the Regulatory Flexibility Act. We invite public comment on those actions as well as any regulation consistent with Executive Order 13563.

USDA has attempted to list all regulations and regulatory reviews pending at the time of publication except for minor and routine or repetitive actions, but some may have been inadvertently missed. There is no legal significance to the omission of an item from this listing. Also, the dates shown for the steps of each action are estimated and are not commitments to act on or by the date shown.

USDA's complete regulatory agenda is available online at www.reginfo.gov. Because publication in the Federal Register is mandated for the regulatory flexibility agendas required by the Regulatory Flexibility Act (5 U.S.C. 602), USDA's printed agenda entries include only:

(1) Rules that are likely to have a significant economic impact on a substantial number of small entities; and

(2) Rules identified for periodic review under section 610 of the Regulatory Flexibility Act.

For this edition of the USDA regulatory agenda, the most important regulatory actions are summarized in a Statement of Regulatory Priorities that is included in the Regulatory Plan, which appears in both the online regulatory agenda and in part II of the Federal Register that includes the abbreviated regulatory agenda.

FOR FURTHER INFORMATION CONTACT: For further information on any specific entry shown in this agenda, please contact the person listed for that action. For general comments or inquiries about the agenda, please contact Mr. Michael Poe, Office of Budget and Program Analysis, U.S. Department of Agriculture, Washington, DC 20250, (202) 720-3257.

Dated: September 14, 2021.
Michael Poe,
Legislative and Regulatory Staff.

Agricultural Marketing Service—Prerule Stage
Sequence No. | Title | Regulation Identifier No.
182 | Inert Ingredients in Pesticides for Organic Production (AMS-NOP-21-0008) | 0581-AE02

Agricultural Marketing Service—Proposed Rule Stage
Sequence No. | Title | Regulation Identifier No.
183 | Dealer Trust; Add Livestock Dealer Regulation and Statement (AMS-FTPP-21-0015) | 0581-AE01
184 | Poultry Grower Ranking Systems (AMS-FTPP-21-0044) (Reg Plan Seq No. 1) | 0581-AE03
185 | Unfair Practices in Violation of the Packers and Stockyards Act (AMS-FTPP-21-0045) (Reg Plan Seq No. 3) | 0581-AE05
186 | Organic Livestock and Poultry Standards (Reg Plan Seq No. 4) | 0581-AE06
187 | Natural Grass Sod Promotion, Research, and Information Order (AMS-LP-21-0028) | 0581-AE07
188 | Wheat Flour Foods Promotion, Research, and Information Order (AMS-LP-20-0024) | 0581-AE09
References in boldface appear in The Regulatory Plan in part II of this issue of the Federal Register.

Agricultural Marketing Service—Final Rule Stage
Sequence No. | Title | Regulation Identifier No.
189 | Strengthening Organic Enforcement (AMS-NOP-17-0065) | 0581-AD09
190 | Dairy Donation Program (AMS-DA-21-0013) | 0581-AE00

Agricultural Marketing Service—Long-Term Actions
Sequence No. | Title | Regulation Identifier No.
191 | National Organic Program—Organic Aquaculture Standards | 0581-AD34
192 | National Organic Program, Organic Apiculture Practice Standard | 0581-AE12
193 | National Organic Program, Organic Pet Food Standards | 0581-AE13
194 | National Organic Program: Organic Mushroom Standards | 0581-AE14

Animal and Plant Health Inspection Service—Proposed Rule Stage
Sequence No. | Title | Regulation Identifier No.
195 | Animal Disease Traceability; Electronic Identification | 0579-AE64

Animal and Plant Health Inspection Service—Final Rule Stage
Sequence No. | Title | Regulation Identifier No.
196 | Handling of Animals; Contingency Plans | 0579-AC69
197 | Bovine Spongiform Encephalopathy and Scrapie; Importation of Small Ruminants and Their Germplasm, Products, and Byproducts | 0579-AD10

Animal and Plant Health Inspection Service—Long-Term Actions
Sequence No. | Title | Regulation Identifier No.
198 | Importation of Fresh Citrus Fruit From the Republic of South Africa Into the Continental United States | 0579-AD95
199 | Horse Protection; Licensing of Designated Qualified Persons and Other Amendments | 0579-AE19
200 | National List of Reportable Animal Diseases | 0579-AE39
201 | Requiring Microchipping, Verifiable Signatures, Government Official Endorsement, and Mandatory Forms for Importation of Live Dogs | 0579-AE58

Food and Nutrition Service—Proposed Rule Stage
Sequence No. | Title | Regulation Identifier No.
202 | Special Supplemental Nutrition Program for Women, Infants and Children (WIC): WIC Online Ordering and Transactions | 0584-AE85

Food and Nutrition Service—Long-Term Actions
Sequence No. | Title | Regulation Identifier No.
203 | National School Lunch and School Breakfast Programs: School Food Service Account Revenue Amendments Related to the Healthy, Hunger-Free Kids Act of 2010 | 0584-AE11
204 | Modernizing Supplemental Nutrition Assistance Program (SNAP) Benefit Redemption Systems | 0584-AE37
205 | Supplemental Nutrition Assistance Program (SNAP): Electronic Benefits Transfer Requirements for Scanning and Product-Lookup Technology | 0584-AE39
206 | Providing Regulatory Flexibility for Retailers in the Supplemental Nutrition Assistance Program (SNAP) | 0584-AE61
207 | Strengthening Integrity and Reducing Retailer Fraud in the Supplemental Nutrition Assistance Program (SNAP) | 0584-AE71

Food and Nutrition Service—Completed Actions
Sequence No. | Title | Regulation Identifier No.
208 | National School Lunch and School Breakfast Programs: Nutrition Standards for All Foods Sold in School, as Required by the Healthy, Hunger-Free Kids Act of 2010 | 0584-AE55

Food Safety and Inspection Service—Proposed Rule Stage
Sequence No. | Title | Regulation Identifier No.
209 | Changing the Labeling Requirements for Processed Products That Contain Nitrate or Nitrite | 0583-AD92
210 | Foreign Equivalence Regulations | 0583-AD93

Forest Service—Long-Term Actions
Sequence No. | Title | Regulation Identifier No.
211 | Special Uses—Communications Uses Rent | 0596-AD43

DEPARTMENT OF AGRICULTURE (USDA)

Agricultural Marketing Service (AMS)

Prerule Stage

182. Inert Ingredients in Pesticides for Organic Production (AMS-NOP-21-0008)

Legal Authority: 7 U.S.C. 6501 to 6524

Abstract: This Advanced Notice of Proposed Rulemaking (ANPR) requests comments on options for replacing outdated references in USDA's organic regulations to U.S. Environmental Protection Agency (EPA) policy on inert ingredients in pesticides. Inerts, also known as other ingredients, are any substances other than the active ingredient that are intentionally added to pesticide products. The references to outdated EPA policy appear in the USDA organic regulations in the National List of Allowed and Prohibited Substances (National List) and identify the inert ingredients allowed in pesticides for organic production.

Timetable:

Action | Date | FR Cite
ANPRM | 03/00/22

Regulatory Flexibility Analysis Required: Yes.

Agency Contact: Jennifer Tucker, Deputy Administrator, USDA National Organic Program, Department of Agriculture, Agricultural Marketing Service, 1400 Independence Avenue SW, Washington, DC 20250, Phone: 202 260-8077, Email: jennifer.tucker@usda.gov.

RIN: 0581-AE02

DEPARTMENT OF AGRICULTURE (USDA)

Agricultural Marketing Service (AMS)

Proposed Rule Stage

183. Dealer Trust; Add Livestock Dealer Regulation and Statement (AMS-FTPP-21-0015)

Legal Authority: Pub. L. 116-260, sec. 763

Abstract: The proposed rule would revise the Packers and Stockyards regulations to add provisions for written notifications related to the new livestock dealer trust. The revisions outline the process for livestock sellers to notify livestock dealers and the Secretary of the seller's intent to preserve their interest in trust benefits should the dealer fail to pay for livestock purchased. The revisions also require livestock sellers to acknowledge in writing that they forfeit rights to the dealer trust under the terms of credit sales to dealers. These provisions mirror existing regulatory provisions related to livestock and poultry sales under the Packers and Stockyards Act.

Timetable:

Action | Date | FR Cite
NPRM | 02/00/22

Regulatory Flexibility Analysis Required: Yes.

Agency Contact: Stuart Frank, Division Director, Packers and Stockyards Division, Department of Agriculture, Agricultural Marketing Service, Federal Building; Room 917, 210 Walnut Street, Des Moines, IA 50309, Phone: 515 323-2586, Email: stuart.frank@usda.gov.

RIN: 0581-AE01

184. Poultry Grower Ranking Systems (AMS-FTPP-21-0044)

Regulatory Plan: This entry is Seq. No. 1 in part II of this issue of the Federal Register.

RIN: 0581-AE03

185. Unfair Practices in Violation of the Packers and Stockyards Act (AMS-FTPP-21-0045)

Regulatory Plan: This entry is Seq. No. 3 in part II of this issue of the Federal Register.

RIN: 0581-AE05

186. • Organic Livestock and Poultry Standards

Regulatory Plan: This entry is Seq. No. 4 in part II of this issue of the Federal Register.

RIN: 0581-AE06

187. • Natural Grass Sod Promotion, Research, and Information Order (AMS-LP-21-0028)

Legal Authority: 7 U.S.C. 7411 to 7425

Abstract: This proposed rule invites comments on the establishment of an industry-funded promotion, research, and information program for natural grass sod products. The proposed Natural Grass Sod Promotion, Research, and Information Order was submitted to the U.S. Department of Agriculture by Turfgrass Producers International, a group of natural grass sod producers. The program will conduct research, marketing, and promotion activities that will benefit the entire industry. Primary goals of the program include educating consumers and stakeholders of the benefits of natural grass and providing producers with marketing tools they can use to grow their business. The goals identified in this proposed rule are only attainable through a national research and promotion program for natural grass sod.

Timetable:

Action | Date | FR Cite
NPRM | 11/00/21

Regulatory Flexibility Analysis Required: Yes.

Agency Contact: Betsy Flores, Director of the Research and Promotion Division, Department of Agriculture, Agricultural Marketing Service, Washington, DC 20024, Phone: 202 720-1118, Email: elizabethr.flores@usda.gov.

RIN: 0581-AE07

188. • Wheat Flour Foods Promotion, Research, and Information Order (AMS-LP-20-0024)

Legal Authority: 7 U.S.C. 7411 to 7425

Abstract: This proposed rule invites comments on the establishment of an industry-funded promotion, research, and information program for wheat flour used to produce grain foods. The proposed Wheat Flour Foods Promotion, Research, and Information Order was submitted to the U.S. Department of Agriculture by the Grain Foods Foundation (GFF), a group of baking and milling industries and allied suppliers. The proposed Order submitted by GFF is intended to increase sales by reversing the current decline in wheat flour consumption, improving the perception of bread, and producing research to strengthen the industry's promotion of bread through: (a) Consumer Media; (b) Retail Channel Development; (c) Food Service Channel Development; and (d) Science/Nutrition Research. The proposed order submitted by GFF intends to improve consumption of grain foods, ensure that benefits to the entire industry are paid for by the entire industry, and allow for consistent funding to maximize promotion and research efforts.

Timetable:

Action | Date | FR Cite
NPRM | 12/00/21

Regulatory Flexibility Analysis Required: Yes.

Agency Contact: Betsy Flores, Director of the Research and Promotion Division, Department of Agriculture, Agricultural Marketing Service, Washington, DC 20024, Phone: 202 720-1118, Email: elizabethr.flores@usda.gov.

RIN: 0581-AE09

DEPARTMENT OF AGRICULTURE (USDA)

Agricultural Marketing Service (AMS)

Final Rule Stage

189. Strengthening Organic Enforcement (AMS-NOP-17-0065)

Legal Authority: 7 U.S.C. 6501

Abstract: The Strengthening Organic Enforcement (SOE) rulemaking will address 2018 Farm Bill mandates. In summary, SOE will follow requirements that align with the Farm Bill:

• Limiting the types of operations in the organic supply chain that are not required to obtain organic certification;

• Imported organic products must be accompanied by an electronic import certificate to validate organic status;

• Import certificates will be submitted to the U.S. Customs and Border Protection's Automated Commercial Environment (ACE);

• Certifying agents must notify USDA within 90 days of the opening of any new office that conducts certification activities; and,

• Entities acting on behalf of certifying agents may be suspended when there is noncompliant activity.

Timetable:

Action | Date | FR Cite
Proposed Rule | 08/05/20 | 85 FR 47536
Comment Period End | 10/05/20
Final Rule | 03/00/22

Regulatory Flexibility Analysis Required: Yes.

Agency Contact: Jennifer Tucker, Deputy Administrator, USDA National Organic Program, Department of Agriculture, Agricultural Marketing Service, 1400 Independence Avenue SW, Washington, DC 20250, Phone: 202 260-8077, Email: jennifer.tucker@usda.gov.

RIN: 0581-AD09

190. Dairy Donation Program (AMS-DA-21-0013)

Legal Authority: Pub. L. 116-260, sec. 762

Abstract: This rulemaking for the Dairy Donation Program will finalize the program authorized in the Consolidated Appropriations Act of 2021. The Dairy Donation Program is a voluntary program that reimburses eligible dairy organizations for milk used to make eligible dairy products donated to non-profit groups for distribution to low-income persons.

Timetable:

Action | Date | FR Cite
Interim Final Rule | 09/01/21 | 86 FR 48887
Interim Final Rule Comment Period End | 11/01/21
Final Rule | 11/00/22

Regulatory Flexibility Analysis Required: Yes.

Agency Contact: Erin Taylor, Acting Director, Order Formulation and Enforcement Division, Department of Agriculture, Agricultural Marketing Service, Dairy Program, 1400 Independence Avenue SW, Room 2969-S, Washington, DC 20250, Phone: 202 720-7311, Email: erin.taylor@ams.usda.gov.

RIN: 0581-AE00

DEPARTMENT OF AGRICULTURE (USDA)

Agricultural Marketing Service (AMS)

Long-Term Actions

191. National Organic Program—Organic Aquaculture Standards

Legal Authority: 7 U.S.C. 6501 to 6522

Abstract: This action proposes to establish standards for organic production and certification of farmed aquatic animals and their products in the USDA organic regulations. This action would also add aquatic animals as a scope of certification and accreditation under the National Organic Program (NOP).

Timetable:

Action | Date | FR Cite
NPRM | To Be Determined

Regulatory Flexibility Analysis Required: Yes.

Agency Contact: Jennifer Tucker, Phone: 202 260-8077, Email: jennifer.tucker@usda.gov.

RIN: 0581-AD34

192. • National Organic Program, Organic Apiculture Practice Standard

Legal Authority: 7 U.S.C. 6501

Abstract: This action proposes to amend the USDA organic regulations to reflect an October 2010 recommendation submitted to the Secretary by the National Organic Standards Board (NOSB) concerning the production of organic apicultural (or beekeeping) products.

Timetable:

Action | Date | FR Cite
NPRM | To Be Determined

Regulatory Flexibility Analysis Required: Yes.

Agency Contact: Jennifer Tucker, Deputy Administrator, USDA National Organic Program, Department of Agriculture, Agricultural Marketing Service, 1400 Independence Avenue SW, Washington, DC 20250, Phone: 202 260-8077, Email: jennifer.tucker@usda.gov.

RIN: 0581-AE12

193. • National Organic Program, Organic Pet Food Standards

Legal Authority: 7 U.S.C. 6501

Abstract: This action proposes to amend the USDA organic regulations to reflect a recommendation submitted to the Secretary by the National Organic Standards Board (NOSB) to develop organic pet food standards.

Timetable:

Action | Date | FR Cite
NPRM | To Be Determined

Regulatory Flexibility Analysis Required: Yes.

Agency Contact: Jennifer Tucker, Deputy Administrator, USDA National Organic Program, Department of Agriculture, Agricultural Marketing Service, 1400 Independence Avenue SW, Washington, DC 20250, Phone: 202 260-8077, Email: jennifer.tucker@usda.gov.

RIN: 0581-AE13

194. • National Organic Program: Organic Mushroom Standards

Legal Authority: 7 U.S.C. 6501 to 6524

Abstract: This action proposes to establish standards for the organic production and certification of mushrooms in the USDA organic regulations.

Timetable:

Action | Date | FR Cite
NPRM | To Be Determined

Regulatory Flexibility Analysis Required: Yes.

Agency Contact: Jennifer Tucker, Deputy Administrator, USDA National Organic Program, Department of Agriculture, Agricultural Marketing Service, 1400 Independence Avenue SW, Washington, DC 20250, Phone: 202 260-8077, Email: jennifer.tucker@usda.gov.

RIN: 0581-AE14

BILLING CODE 3410-02-P

DEPARTMENT OF AGRICULTURE (USDA)

Animal and Plant Health Inspection Service (APHIS)

Proposed Rule Stage

195. Animal Disease Traceability; Electronic Identification

Legal Authority: 7 U.S.C. 8301 et seq.

Abstract: This action would amend APHIS' animal disease traceability regulations, currently codified at 9 CFR part 86. The primary proposed change would require that beginning January 1, 2023, APHIS would only recognize identification devices (e.g., eartags) as official identification for cattle and bison covered by the regulations if the devices have both visual and electronic readability (EID). Other proposed changes are intended to clarify language and requirements in several sections of part 86. These changes would enhance the U.S. traceability system to better achieve goals of rapidly tracing diseased and exposed animals and containing outbreaks.

Timetable:

Action | Date | FR Cite
NPRM | 03/00/22

Regulatory Flexibility Analysis Required: Yes.

Agency Contact: Dr. Aaron Scott Ph.D., DACVPM, Director, Department of Agriculture, Animal and Plant Health Inspection Service, National Animal Disease Traceability and Veterinary Accreditation Center, APHIS Veterinary Services Strategy and Policy, 2150 Centre Avenue, Building B (Mail Stop 3E87), Fort Collins, CO 80526, Phone: 970 494-7249, Email: traceability@usda.gov.

RIN: 0579-AE64

DEPARTMENT OF AGRICULTURE (USDA)

Animal and Plant Health Inspection Service (APHIS)

Final Rule Stage

196. Handling of Animals; Contingency Plans

Legal Authority: 7 U.S.C. 2131 to 2159

Abstract: The Animal and Plant Health Inspection Service issued a final rule on December 31, 2012, to establish regulations under which research facilities and dealers, exhibitors, intermediate handlers, and carriers must meet certain requirements for contingency planning and training of personnel. Implementation of the final rule was stayed on July 31, 2013, so that the agency could conduct additional review to further consider the impact of contingency plan requirements on regulated entities. Since that time, we have conducted such a review, and the 2021 Congressional Appropriations Act has required us to lift the stay. We are therefore lifting the stay and making minor revisions to the requirements in order to update compliance dates and clarify intent. The lifting of the stay and revisions will better ensure that entities responsible for animals regulated under the Animal Welfare Act are prepared to safeguard the health and welfare of such animals in the event of possible emergencies or disasters.

Timetable:

Action | Date | FR Cite
NPRM | 10/23/08 | 73 FR 63085
NPRM Comment Period End | 12/22/08
NPRM Comment Period Extended | 12/19/08 | 73 FR 77554
NPRM Comment Period Extended End | 02/20/09
Final Rule | 12/31/12 | 77 FR 76815
Final Rule Effective | 01/30/13
Final Rule—Stay of Regulations | 07/31/13 | 78 FR 46255
Final Rule Effective—Stay of Regulations | 07/31/13
NPRM | 06/25/21 | 86 FR 33567
NPRM Comment Period End | 08/24/21
Final Rule | 02/00/22

Regulatory Flexibility Analysis Required: Yes.

Agency Contact: Elizabeth Theodorson, Assistant Deputy Administrator, Animal Care, Department of Agriculture, Animal and Plant Health Inspection Service, 4700 River Road, Unit 86, Riverdale, MD 20737, Phone: 970 494-7473.

RIN: 0579-AC69

197. Bovine Spongiform Encephalopathy and Scrapie; Importation of Small Ruminants and Their Germplasm, Products, and Byproducts

Legal Authority: 7 U.S.C. 450; 7 U.S.C. 1622; 7 U.S.C. 7701 to 7772; 7 U.S.C. 7781 to 7786; 7 U.S.C. 8301 to 8317; 21 U.S.C. 136 and 136a; 31 U.S.C. 9701

Abstract: We are amending the regulations governing the importation of animals and animal products to revise conditions for the importation of live sheep, goats, and certain other non-bovine ruminants, and products derived from sheep and goats, with regard to transmissible spongiform encephalopathies such as bovine spongiform encephalopathy (BSE) and scrapie. We are removing BSE-related import restrictions on sheep and goats and most of their products and adding import restrictions related to transmissible spongiform encephalopathies for certain wild, zoological, or other non-bovine ruminant species. The conditions we are adopting for the importation of specified commodities are based on internationally accepted scientific literature and will, in general, align our regulations with guidelines established in the World Organization for Animal Health's Terrestrial Animal Health Code.

Timetable:

Action | Date | FR Cite
NPRM | 07/18/16 | 81 FR 46619
NPRM Comment Period End | 09/16/16
Final Rule | 11/00/21

Regulatory Flexibility Analysis Required: Yes.

Agency Contact: Alexandra MacKenzie, Veterinary Medical Officer, Animal Permitting and Negotiating Services, NIES, VS, Department of Agriculture, Animal and Plant Health Inspection Service, 4700 River Road, Unit 39, Riverdale, MD 20737, Phone: 301 851-3300.

RIN: 0579-AD10

DEPARTMENT OF AGRICULTURE (USDA)

Animal and Plant Health Inspection Service (APHIS)

Long-Term Actions

198. Importation of Fresh Citrus Fruit From the Republic of South Africa Into the Continental United States

Legal Authority: 7 U.S.C. 450; 7 U.S.C. 7701 to 7772; 7 U.S.C. 7781 to 7786; 21 U.S.C. 136 and 136a

Abstract: This notice will allow the importation of several varieties of fresh citrus fruit, as well as citrus hybrids, into the continental United States from areas in the Republic of South Africa where citrus black spot has been known to occur. As a condition of entry, the fruit will have to be produced in accordance with a systems approach that includes shipment traceability, packinghouse registration and procedures, and phytosanitary treatment. The fruit will also be required to be imported in commercial consignments and accompanied by a phytosanitary certificate issued by the national plant protection organization of the Republic of South Africa with an additional declaration confirming that the fruit has been produced in accordance with the systems approach. This action will allow for the importation of fresh citrus fruit, including citrus hybrids, from the Republic of South Africa while continuing to provide protection against the introduction of plant pests into the United States. This notice is being issued pursuant to the terms set forth in a September 14, 2018 final rule (83 FR 46627-46639, Docket No. APHIS-2010-0082), which established a notice-based process for authorizing the importation of fruits and vegetables into the United States.

Timetable:

Action | Date | FR Cite
NPRM | 08/28/14 | 79 FR 51273
NPRM Comment Period End | 10/27/14
Final Notice | To Be Determined

Regulatory Flexibility Analysis Required: Yes.

Agency Contact: Tony Román, Phone: 301 851-2242.

RIN: 0579-AD95

199. Horse Protection; Licensing of Designated Qualified Persons and Other Amendments

Legal Authority: 15 U.S.C. 1823 to 1825; 15 U.S.C. 1828

Abstract: We proposed amending the horse protection regulations to provide that the Animal and Plant Health Inspection Service (APHIS) would train and license horse protection inspectors (HPIs) to inspect horses at horse shows, exhibitions, sales, and auctions for compliance with the Horse Protection Act. Those changes to the regulations would strengthen enforcement of the Horse Protection Act and regulations and relieve horse industry organizations or associations of their regulatory burdens and responsibilities. We also proposed establishing a process by which APHIS can deny an application for a HPI license or revoke the license of a HPI who does not meet the minimum requirements, who fails to follow the designated inspection procedures, or who otherwise fails to carry out his or her duties and responsibilities in a satisfactory manner. In addition, we proposed making several changes to the requirements that pertain to the management of any horse show, exhibition, sale, and auction, as well as changes to the list of devices, equipment, substances, and practices that are prohibited to prevent the soring of horses. Finally, we proposed revising the inspection procedures that inspectors are required to perform. These actions would help to protect horses from the cruel and inhumane practice of soring and eliminate unfair competitive advantage that sore horses have over horses that are not sore.

Timetable:

Action | Date | FR Cite
NPRM | 07/26/16 | 81 FR 49111
NPRM Comment Period Extended | 09/22/16 | 81 FR 65307
NPRM Comment Period End | 10/26/16
Next Action Undetermined

Regulatory Flexibility Analysis Required: Yes.

Agency Contact: Aaron Rhyner,Phone: 970 494-7484.

RIN: 0579-AE19

200. National List of Reportable Animal Diseases

Legal Authority: 7 U.S.C. 8301 to 8317

Abstract: This rulemaking amends our disease regulations to provide for a National List of Reportable Animal Diseases, along with reporting responsibilities for animal health professionals that encounter or suspect cases of communicable animal diseases and disease agents. The changes are necessary to streamline State and Federal cooperative animal disease detection, response, and control efforts. This action will consolidate and enhance current disease reporting mechanisms, and it will complement and supplement existing animal disease tracking and reporting at the State level.

Timetable:

Action | Date | FR Cite
NPRM | 04/02/20 | 85 FR 18471
NPRM Comment Period End | 06/01/20
NPRM Comment Period Reopened | 08/18/20 | 85 FR 50796
NPRM Comment Period Reopened End | 08/21/20
Final Action | To Be Determined

Regulatory Flexibility Analysis Required: Yes.

Agency Contact: Jane Rooney, Phone: 970 494-7397.

RIN: 0579-AE39

201. Requiring Microchipping, Verifiable Signatures, Government Official Endorsement, and Mandatory Forms for Importation of Live Dogs

Legal Authority: 7 U.S.C. 2131 to 2159

Abstract: We are proposing to amend the regulations regarding the importation of live dogs by requiring all live dogs imported into the United States for resale purposes to be microchipped for permanent identification, and to require importers to procure a microchip reader and make it available to port-of-entry officials as requested. This action would also add microchipping as one of three identification options for dogs and cats used by dealers, exhibitors and research facilities. In addition, APHIS is proposing to require a verifiable signature on the health certificate and rabies certificate accompanying imported live dogs, an endorsement of the health certificate by a government official in the country of origin, and the mandatory use of forms provided by APHIS.

Timetable:

Action | Date | FR Cite
NPRM | To Be Determined

Regulatory Flexibility Analysis Required: Yes.

Agency Contact: Elizabeth Theodorson, Phone: 970 494-7473.

RIN: 0579-AE58

BILLING CODE 3410-34-P

DEPARTMENT OF AGRICULTURE (USDA)

Food and Nutrition Service (FNS)

Proposed Rule Stage

202. Special Supplemental Nutrition Program for Women, Infants and Children (WIC): WIC Online Ordering and Transactions

Legal Authority: Pub. L. 111-296

Abstract: This rule addresses key regulatory barriers to online ordering in the WIC Program by making changes to the provisions that prevent online transactions and types of online capable stores from participating in the Program. This rule will also allow FNS to modernize WIC vendor regulations that do not reflect current technology and facilitate the Program's transition to EBT.

Timetable:

Action | Date | FR Cite
NPRM | 04/00/22

Regulatory Flexibility Analysis Required: Yes.

Agency Contact: Michael DePiro, Department of Agriculture, Food and Nutrition Service, 1320 Braddock Place, Alexandria, VA 22314, Phone: 703 305-2876, Email: michael.depiro@usda.gov.

Maureen Lydon, Department of Agriculture, Food and Nutrition Service, 1320 Braddock Place, Alexandria, VA 22314, Phone: 703 457-7713, Email: maureen.lydon@usda.gov.

RIN: 0584-AE85

DEPARTMENT OF AGRICULTURE (USDA)

Food and Nutrition Service (FNS)

Long-Term Actions

203. National School Lunch and School Breakfast Programs: School Food Service Account Revenue Amendments Related to the Healthy, Hunger-Free Kids Act of 2010

Legal Authority: Pub. L. 111-296

Abstract: This rule amends National School Lunch Program (NSLP) regulations to conform to requirements contained in the Healthy, Hunger-Free Kids Act of 2010 regarding equity in school lunch pricing and revenue from non-program foods sold in schools. This rule requires school food authorities (SFAs) participating in the NSLP to provide the same level of financial support for lunches served to students who are not eligible for free or reduced-price lunches as is provided for lunches served to students eligible for free lunches. This rule also requires that all food sold in a school and purchased with funds from the nonprofit school food service account other than meals and supplements reimbursed by the Department of Agriculture must generate revenue at least proportionate to the cost of such foods.

Timetable:

Action | Date | FR Cite
Interim Final Rule | 06/17/11 | 76 FR 35301
Interim Final Rule Effective | 07/01/11
Interim Final Rule Comment Period End | 09/15/11
Next Action Undetermined

Regulatory Flexibility Analysis Required: Yes.

Agency Contact: Michael DePiro, Phone: 703 305-2876, Email: michael.depiro@usda.gov.

Maureen Lydon, Phone: 703 457-7713, Email: maureen.lydon@usda.gov.

RIN: 0584-AE11

204. Modernizing Supplemental Nutrition Assistance Program (SNAP) Benefit Redemption Systems

Legal Authority: Pub. L. 113-79

Abstract: The Food and Nutrition Service (FNS) will propose changes that collectively modernize SNAP benefit issuance and increase program integrity while streamlining program administration, offering greater flexibility to State agencies, and improving customer service. The rule will codify provisions of the 2014 Farm Bill, the 2018 Farm Bill, and respond to 2018 OIG audit findings. The rule will codify 2014 Farm Bill provisions requiring most SNAP-authorized retailers to pay the costs associated with EBT equipment, supplies and related services and requirements pertaining to the online SNAP payment option. This rule would also codify waivers that have been granted to State agencies to implement practices that have proven beneficial as the EBT system has developed and matured, address Disaster-SNAP requirements for on-going households, and update EBT system technical and functional requirements.

Timetable: Next Action Undetermined.

Regulatory Flexibility Analysis Required: Yes.

Agency Contact: Charles H. Watford, Phone: 703 605-0800, Email: charles.watford@usda.gov.

Maureen Lydon, Phone: 703 457-7713, Email: maureen.lydon@usda.gov.

RIN: 0584-AE37

205. Supplemental Nutrition Assistance Program (SNAP): Electronic Benefits Transfer Requirements for Scanning and Product-Lookup Technology

Legal Authority: Pub. L. 113-79

Abstract: This rule will align program regulations with changes made by section 4002 of the Agricultural Act of 2014 (Pub. L. 113-79, the Farm Bill), which introduced new technical requirements for point-of-sale (POS) devices in the Electronic Benefits Transfer (EBT) system in section 7(h)(2)(C) of the Food and Nutrition Act of 2008 (the FNA). The Food and Nutrition Service (FNS) will propose to revise existing regulations both to codify these statutory requirements as well as to provide for their effective implementation and enforcement through the clarification of the technical specifications and capabilities required of this equipment and by addressing methods for ensuring compliance. In addition, USDA will define what constitutes an area that has significantly limited access to food to determine who is exempt from this requirement.

Timetable: Next Action Undetermined.

Regulatory Flexibility Analysis Required: Yes.

Agency Contact: Charles H. Watford, Phone: 703 605-0800, Email: charles.watford@usda.gov.

Maureen Lydon, Phone: 703 457-7713, Email: maureen.lydon@usda.gov.

RIN: 0584-AE39

206. Providing Regulatory Flexibility for Retailers in the Supplemental Nutrition Assistance Program (SNAP)

Legal Authority: Pub. L. 113-79; 7 U.S.C. 2011 to 2036

Abstract: The Agricultural Act of 2014 amended the Food and Nutrition Act of 2008 to increase the requirement that certain Supplemental Nutrition Assistance Program (SNAP) authorized retail food stores have available on a continuous basis at least three varieties of items in each of four staple food categories, to a mandatory minimum of seven varieties. The Food and Nutrition Service (FNS) codified these mandatory requirements. Subsequent annual Agency appropriations bill language prohibited implementation of certain final rule provisions. In response, this change will provide some retailers participating in SNAP as authorized food stores with more flexibility in meeting the enhanced SNAP eligibility requirements.

Timetable:

Action | Date | FR Cite
NPRM | 04/05/19 | 84 FR 13555
NPRM Comment Period End | 06/04/19
NPRM Comment Period Reopened | 06/14/19 | 84 FR 27743
NPRM Comment Period Reopen End | 06/20/19
Next Action Undetermined

Regulatory Flexibility Analysis Required: Yes.

Agency Contact: Charles H. Watford, Phone: 703 605-0800, Email: charles.watford@usda.gov.

Maureen Lydon, Phone: 703 457-7713, Email: maureen.lydon@usda.gov.

RIN: 0584-AE61

207. Strengthening Integrity and Reducing Retailer Fraud in the Supplemental Nutrition Assistance Program (SNAP)

Legal Authority: Pub. L. 113-79; Pub. L. 115-334

Abstract: This proposed rule would implement statutory provisions of the Food, Conservation, and Energy Act of 2008 (the 2008 Farm Bill), the Agriculture Improvement Act of 2018 (the 2018 Farm Bill), and other language intended to deter retailer fraud, abuse, and non-compliance in the Supplemental Nutrition Assistance Program (SNAP).

Timetable: Next Action Undetermined.

Regulatory Flexibility Analysis Required: Yes.

Agency Contact: Charles H. Watford, Phone: 703 605-0800, Email: charles.watford@usda.gov.

Maureen Lydon, Phone: 703 457-7713, Email: maureen.lydon@usda.gov.

RIN: 0584-AE71

DEPARTMENT OF AGRICULTURE (USDA)

Food and Nutrition Service (FNS)

Completed Actions

208. National School Lunch and School Breakfast Programs: Nutrition Standards for All Foods Sold in School, as Required by the Healthy, Hunger-Free Kids Act of 2010

Legal Authority: Pub. L. 111-296

Abstract: This rule codifies a provision of the Healthy, Hunger-Free Kids Act (Pub. L. 111-296; the Act) under 7 CFR parts 210 and 220. Section 208 requires the Secretary to promulgate regulations to establish science-based nutrition standards for all foods sold in schools. The nutrition standards apply to all food sold outside the school meal programs, on the school campus, and at any time during the school day. However, FNS determined that this final rule is not necessary since this provision is in effect as an interim final rule (0584-AE09), and other regulatory provisions for foods sold in school were finalized in 2016.

Completed:

Reason | Date | FR Cite
Withdrawn | 08/30/21 |

Regulatory Flexibility Analysis Required: Yes.

Agency Contact: Michael DePiro, Phone: 703 305-2876, Email: michael.depiro@usda.gov.

Maureen Lydon, Phone: 703 457-7713, Email: maureen.lydon@usda.gov.

RIN: 0584-AE55

BILLING CODE 3410-30-P

DEPARTMENT OF AGRICULTURE (USDA)

Food Safety and Inspection Service (FSIS)

Proposed Rule Stage

209. • Changing the Labeling Requirements for Processed Products That Contain Nitrate or Nitrite

Legal Authority: 21 U.S.C. 601 et seq.; 21 U.S.C. 451 et seq.

Abstract: The Food Safety and Inspection Service (FSIS) is proposing to amend its labeling requirements for processed meat and poultry products to establish new definitions for Cured and Uncured. Additionally, FSIS is proposing to remove from the regulations the chart listing approved uses of food ingredients and sources of radiation at 9 CFR 424.21(c) and to instead list approved uses online and in FSIS Directive 7120.1, Safe and Suitable Ingredients Used in the Production of Meat, Poultry and Egg Products. FSIS is proposing these changes in response to a petition. Finally, FSIS is proposing to rescind the regulations at 9 CFR 424.22(b)(1)(i) and (ii)(C) that require FSIS to collect samples of pumped bacon from producing establishments and analyze them for nitrosamines because FSIS no longer conducts this testing.

Timetable:

Action | Date | FR Cite
NPRM | 05/00/22 |

Regulatory Flexibility Analysis Required: Yes.

Agency Contact: Matthew Michael, Director, Regulations Development Staff, Department of Agriculture, Food Safety and Inspection Service, Office of Policy and Program Development, 1400 Independence Avenue SW, Washington, DC 20250-3700, Phone: 202 720-0345, Fax: 202 690-0486, Email: matthew.michael@usda.gov.

RIN: 0583-AD92

210. • Foreign Equivalence Regulations

Legal Authority: 21 U.S.C. 601 et seq.; 21 U.S.C. 451 et seq.; 21 U.S.C. 1031 et seq.

Abstract: The Food Safety and Inspection Service (FSIS) is proposing to update and combine into a new part the criteria FSIS uses to evaluate whether a foreign country is eligible to export meat (including Siluriformes fish), poultry, or egg products to the United States.

Timetable:

Action | Date | FR Cite
NPRM | 05/00/22 |

Regulatory Flexibility Analysis Required: Yes.

Agency Contact: Matthew Michael, Director, Regulations Development Staff, Department of Agriculture, Food Safety and Inspection Service, Office of Policy and Program Development, 1400 Independence Avenue SW, Washington, DC 20250-3700, Phone: 202 720-0345, Fax: 202 690-0486, Email: matthew.michael@usda.gov.

RIN: 0583-AD93

BILLING CODE 3410-DM-P

DEPARTMENT OF AGRICULTURE (USDA)

Forest Service (FS)

Long-Term Actions

211. Special Uses—Communications Uses Rent

Legal Authority: 43 U.S.C. 1761 to 1771.

Abstract: Consistent with the requirement in title V, section 504(g) of the Federal Land Policy and Management Act, the proposed rule would update the Forest Service's rental fee schedule for communications uses based on market value. Updated rental fees that exceed 100 percent of current rental fees would be phased in over a 3-year period. USDA is coordinating development of the information base to support this rulemaking with the Department of the Interior.

Timetable: Next Action Undetermined.

Regulatory Flexibility Analysis Required: Yes.

Agency Contact: Edwina Howard-Agu, Phone: 202 205-1419, Email: edwina.howard-agu@usda.gov.

RIN: 0596-AD43

[FR Doc. 2021-27969 Filed 1-28-22; 8:45 am]

BILLING CODE 3410-11-P